DEPARTMENT OF STATE

[Public Notice 3872]

Privacy Act of 1974, as Amended: New System of Records

Notice is hereby given that the Department of State proposes to create a new system of records, STATE-40, pursuant to the provisions of the Privacy Act of 1974, as amended (5 U.S.C. 552a(r)), and the Office of Management and Budget Circular No. A-130, Appendix I. The Department's report was filed with the Office of Management and Budget on December 18, 2001.

This system of records is being implemented by the Department of State to facilitate an electronic database of official, publicly accessible locator information for all Department of State personnel, domestic and overseas; overseas employees of other foreign affairs agencies receiving payroll services from the Department; and contractors. Emergency contact information is also maintained, but is not publicly available.

Any persons interested in commenting on this system of records may do so by submitting comments in writing to Margaret Peppe, Chief; Programs and Policies Division; Office of IRM Programs and Services; A/RPS/IPS/PP; U.S. Department of State, SA-2; Washington, D.C. 20522-6001 or by fax at 202-261-8571.

This system of records will be effective 40 days from the date of publication, unless we receive comments that will result in a contrary determination.

The new system description, “Electronic Telephone Directory (e*Phone), STATE-40” will read as set forth below.

Dated: December 18, 2001.
William A. Eaton,
Assistant Secretary for the Bureau of Administration.

State-40

SYSTEM NAME:

Electronic Telephone Directory (e*Phone).

SECURITY CLASSIFICATION:

Sensitive but Unclassified (SBU).

SYSTEM LOCATION:

Department of State; 2201 C Street, NW; Washington, DC 20520.

CATEGORIES OF INDIVIDUALS COVERED BY THE SYSTEM:

All current Civil Service (CS) and Foreign Service (FS) direct hire employees of the Department of State, domestic and overseas, regardless of employee type (i.e., full-time, part-time); direct hire overseas employees of other foreign affairs agencies who receive payroll services from the Department, regardless of employee type; direct hire personal service contractors, domestic and overseas; and all other contractor staff, domestic and overseas.

CATEGORIES OF RECORDS IN THE SYSTEM:

The information in this system contains employees' and contractors' public and private contact information. Information, deemed part of the public domain, includes employee name, organization, office room number and building, and office phone number. Private information includes supervisor's name, e-mail address, date of birth, gender, marital status, category of employee, home address and home phone number for the individual, as well as emergency contact information, including name, home and work phone numbers of the contact, and the contact's relationship to the individual.

AUTHORITY FOR MAINTENANCE OF THE SYSTEM:

5 U.S.C. 301 (Management of the Department of State);

22 U.S.C. 2581 (General Authority of Secretary of State); 22 U.S.C. 2651a (Organization of the Department of State).

PURPOSE(S):

The information contained in this system of records is collected and maintained by the Bureau of Information Resources Management in the administration of its responsibility for maintaining the Department's centralized database of official, publicly accessible locator information for all personnel, both domestic and overseas, as well as contractors. Further, home and designated emergency contact information, not publicly accessible, is maintained for emergency use only.

ROUTINE USES OF RECORDS MAINTAINED IN THE SYSTEM, INCLUDING CATEGORIES OF USERS AND PURPOSES OF SUCH USES:

The information in this system may be used by any Department employee or contractor who needs an office address, including room number and building location as applicable, or office phone number for any other employee or contractor. Home and designated emergency contact information is provided on a need-to-know basis to specific, authorized Department of State officials in the event of an individual or general emergency, where such contact needs to be notified of the well-being of said employee(s) or contractor(s).

POLICIES AND PRACTICES FOR STORING, RETRIEVING, ACCESSING, RETAINING AND DISPOSING OF RECORDS IN THE SYSTEM:

STORAGE:

Electronic media.

RETRIEVABILITY:

Individual name.

SAFEGUARDS:

All employees of the Department of State have undergone a thorough background security investigation and contractors have background investigations in accordance with their contracts. Access to the Department and its annexes is controlled by security guards and admission is limited to those individuals possessing a valid identification card or individuals under proper escort. The database server is located in a restricted area, access to which is limited to authorized personnel. Access to computerized files is password-protected and under the direct supervision of the system manager. The system manager has the capability of printing audit trails of access from the computer media, thereby permitting regular and ad hoc monitoring of computer usage.

RETENTION AND DISPOSAL:

These records will be maintained until they become inactive, at which time they will be retired or destroyed in accordance with published record schedules of the Department of State and as approved by the National Archives and Records Administration. More specific information may be obtained by writing to the Director; Office of IRM Programs and Services; SA-2; Department of State; 515 22nd Street NW., Washington, DC 20522-6001 or by fax at 202-261-8571.

SYSTEM MANAGER AND ADDRESS:

Executive Director; Bureau of Information Resources Management; Department of State; 2201 C Street NW., Washington, DC 20520.

NOTIFICATION PROCEDURE:

Individuals who have reason to believe that the Bureau of Information Resources Management might have records pertaining to themselves should write to the Director; Office of IRM Programs and Services; SA-2; Department of State; 515 22nd Street NW., Washington, DC 20522-6001 or send by fax at 202-161-8571. The individual must specify that he/she wishes the Electronic Telephone Directory (e*Phone) to be checked. At a minimum, the individual should include: name; date and place of birth; current mailing address and zip code; signature; and preferably his/her social security number; a brief description of the circumstances that caused the creation of the record, and the approximate dates which give the individual cause to believe that he/she is/was listed in the Electronic Telephone Directory (e*Phone).

RECORD ACCESS AND AMENDMENT PROCEDURES:

Individuals who wish to gain access to or amend records pertaining to themselves should log on to e*Phone using their user-id and password to make updates/amendments. You may also request access or amendments by writing to the Director; Office of IRM Programs and Services (address above).

RECORD SOURCE CATEGORIES:

These records contain information about employees that is automatically fed into e*Phone via a weekly interface with the Department's Human Resources System (Global Employment Management System). Information not publicly available is provided by the individual who is the subject of these records. Information regarding contractors and any other direct hire information is added by request of the individual, by the Post Administrative Office or the IRM Executive Office.

SYSTEMS EXEMPTED FROM CERTAIN PROVISIONS OF THE ACT:

None.

[FR Doc. 02-236 Filed 1-3-02; 8:45 am]

BILLING CODE 4710-24-P